DEPARTMENT OF JUSTICE

Antitrust Division

Notice Pursuant to the National Cooperative Research and Production Act of 1993—Digital Body Development System

Notice is hereby given that, on March 19, 2007, pursuant to Section 6(a) of the National Cooperative Research and Production Act of 1993, 15 U.S.C. 4301 et seq. (“the Act”), the Digital Body Development System (“DBDS”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identifies of the parties to the venture are: Altarum, Ann Arbor, MI; American Tooling Center, Madison Heights, MI; Atlas Tool, Inc., Roseville, MI; Center for Automotive Research, Ann Arbor, MI; CogniTens, Wixom, MI; Ford Motor Company, Dearborn, MI; General Motors, Warren, MI; Riviera Tool Company, Grand Rapids, MI; UGS PLM Solutions, Southfield, MI. The general area of DBDS's planned activity is to develop a decision support system that combines optical metrology, a finite element based assembly simulation engine, and intelligent agent based problem solving technology to enable the implementation of a virtual functional build methodology where designers and vehicle launch teams will be able to identify problems in assembly builds and make better problem solving decisions faster and understand the quality, cost, and timing impacts of those decisions.

Patricia A. Brink,
Deputy Director of Operations, Antitrust Division.

[FR Doc. 07-2233 Filed 5-4-07; 8:45 am]

BILLING CODE 4410-11-M